DEPARTMENT OF ENERGY

National Energy Technology Laboratory

Notice of Availability of a Financial Assistance Solicitation

AGENCY: National Energy Technology Laboratory, Department of Energy (DOE).

ACTION: Notice of Availability of a Financial Assistance Solicitation.

SUMMARY: Notice is hereby given of the intent to issue Financial Assistance Solicitation No. DE-PS26-02NT15376 entitled “Advanced Technology Development by Independents for High Risk Domains.” The Department of Energy (DOE) National Energy Technology Laboratory (NETL), on behalf of its National Petroleum Technology Office (NPTO), seeks applications for cost-shared development and demonstration projects using advanced technologies that address specific high risk domains in the United States. The proposed project can address a technical risk that impacts the technology's full acceptance by the independents working in one of three areas; the shallow shelf Gulf of Mexico, Alaska and the Rocky Mountain Frontier. Or the proposed project can address the critical problems associated with exploration of these regions. The goal is to provide technical solutions to issues that are limiting domestic on-shore or off-shore oil exploration and production by independent oil producing companies while providing the same or higher levels of environmental protection expected under the law.

Applications will either address: (1) Existing Fields—established production areas of the Gulf of Mexico and Alaska and Rocky Mountain Frontier regions, or (2) Exploration—in the very complicated environments of the Gulf of Mexico and Alaska and Rocky Mountain Frontier regions.

DATES: The solicitation will be available on the DOE/NETL's Internet address at http://www.netl.doe.gov/business and on the “Industry Interactive Procurement System” (IIPS) webpage located at http://e-center.doe.gov on or about April 30, 2002.

FOR FURTHER INFORMATION CONTACT: Keith R. Miles, Department of Energy, National Energy Technology Laboratory, P.O. Box 10940, MS 921-107, Pittsburgh, PA 15236, E-mail Address:miles@netl.doe.gov, Telephone Number: 412-386-5984.

SUPPLEMENTARY INFORMATION: The mission of the Department of Energy's Fossil Energy Oil Program is derived from the National need for increased oil production as a part of the national security, requirements for Federal Lands stewardship, and increased protection of the environment. The Oil Reservoir Life Extension Program supports those goals. In addition, the program supports the National Energy Policy goals to increase domestic oil and gas exploration through continued partnership with public and private entities and to promote enhanced oil and gas recovery from existing wells through new technology. By providing demonstrations of new technologies and approaches that improve the recovery and allow access and explorations to technologically difficult locations, the oil program will increase the domestic oil supply.

The Department of Energy Oil Program has, through funding by Congress focused on the needs of the Nation's independent oil operators. The Administration also addressed the needs of the independent oil producer in the National Energy Policy when they recognized that, “Small independent businesses account for 50-65% respectively of domestic petroleum and natural gas production in the lower 48 states.” Independent operators have rapidly moved operations into regions that were traditionally explored and operated by the major oil companies. Recently the many of the Nation's independent producers placed in the ranks of the top 20 producing companies in the United States. They currently maintain 63% of the oil reserves and 62% of the oil production. They control 50% of the gas reserves and 52% of the gas production. In the Gulf of Mexico, one of the regions addressed under this solicitation, independent producers control 25% of the oil production. Alaska has received the attention of independent operators in recent years as these companies have taken on larger and larger leaseholds and operations responsibilities. Based on these figures, it is important that the independent producers use the most effective and advanced technologies in their operations to maximize production and protection of the environment and the resource. It is our intention to partner with the independents who are pushing into new areas of activity either by addressing under explored areas of the State of Alaska and the Rocky Mountain Frontier region, or by testing the newest technologies as they move into greater operations in the shallow offshore Gulf of Mexico and the other two higher risk regions of Alaska and the Rocky Mountains.

Projects do not need to be limited to one area of operations. They may address exploration, drilling and completion, well stimulation, enhanced oil recovery or other operational issues. They can involve several processes and seek to test a management process. The proposed project must however address the identified problems in such a way that evaluation of the success or failure can occur and the reasons can be attributed clearly to the technology or some other identified factor.

The proposed projects must contain a field demonstration.

The solicitation targets projects in three areas: shallow offshore Gulf of Mexico, Alaska, and Rocky Mountain Frontier. Projects will be accepted that address problems affecting independent exploration and production in these areas. The program is not intended to simply provide additional government funding to a proposed capital or venture project operated by an independent operator. Projects should describe how the proposed project expects to increase the oil and gas production in one of the three identified high risk regions. The goal is to assist the operator in testing new technology or processes and extending their expertise into these high risk domains in an effort to create a broader reserve base for the Nation using its own entrepreneurs. The two areas of interest for this solicitation are:

Area of Interest 1—Existing Fields—The projects in this area will promote the goals of the National Energy Policy to use new technology to promote enhanced oil and gas recovery in established production areas of the Gulf of Mexico and Alaska and Rocky Mountain Frontier regions. It addresses the technical risk associated with developing, testing and deploying a new technology under actual field conditions. This program provides the connection between the laboratory and the field and applications are expected to provide documentation of the need for this technology and the problem that it will address. The program allows continued development of a technology to create evolutionary improvements in performance and then the demonstration of such improvements in actual field conditions.

Area of Interest 2—Exploration—The projects in this area target the National Energy Policy goal of advancing new exploration methodologies and technology through the partnership with the independent producers conducting exploration in very complicated environments. The DOE will partner with independent producer in an effort to push the limits of standard exploration technologies and to improve them. Applications are expected to describe the overall exploration problem in the exploration of deeper formations in the Shallow offshore Gulf of Mexico, the oil-prone areas of Alaska, or the Rocky Mountain Frontier and propose the technical solution to the identified problem. They should address the need of the independent operator with regard to this region and show that the project provides such a solution to the problem or problems.

DOE anticipates awarding approximately five (5) to seven (7) financial assistance (i.e., Cooperative Agreements) with a project performance period no less than three years in length and no more than five years in length. Approximately $7.0 million of DOE funding is planned over a 3-year period for this solicitation. The proposed projects will contain a field demonstration and as such under the Energy Policy Act of 1992 a minimum of 50% cost share of the total estimated project cost is required. The maximum DOE share of an award will be $1500K.

This competitive solicitation will be restricted to domestic independent operators. Moreover, for the purposes of this solicitation, an Independent operator shall be a non-integrated company which receives most of its revenue from crude oil or natural gas production at the wellhead. Independents are exclusively in the exploration and production segment of the industry with no retail outlets, marketing or refining operations. Applications submitted by or on behalf of (1) another Federal agency; (2) a Federally Funded Research and Development Center sponsored by another Federal agency; or (3) a Department of Energy (DOE) Management Operating (M&O) contractor will not be eligible for award under this solicitation. However, an application that includes performance of a portion of the work by a DOE M&O contractor will be evaluated and may be considered for award subject to the provisions to be set forth in Program Solicitation DE-PS26-02NT15376. (Note: The limit on participation by an M&O contractor for an individual project under this solicitation cannot exceed 25% of the total project cost).

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on April 19, 2002.
Dale A. Siciliano,
Deputy Director, Acquisition and Assistance Division.

[FR Doc. 02-10285 Filed 4-25-02; 8:45 am]

BILLING CODE 6450-01-P